INTERNATIONAL TRADE COMMISSION

[Investigation Nos. 701-TA-560-561 and 731-TA-1317-1328 (Review)]

Carbon and Alloy Steel Cut-To-Length Plate From Austria, Belgium, Brazil, China, France, Germany, Italy, Japan, South Africa, South Korea, Taiwan, and Turkey; Hearing Update for the Subject Reviews

AGENCY: United States International Trade Commission.

ACTION: Notice.

DATES: September 19, 2022.

FOR FURTHER INFORMATION CONTACT: Nayana Kollanthara (202-205-2043), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these reviews may be viewed on the Commission's electronic docket (EDIS) at https://edis.usitc.gov.

SUPPLEMENTARY INFORMATION: On July 8, 2022, the Commission established a schedule for the conduct of the full five-year reviews (87 FR 43057, July 19, 2022). The Commission hereby gives notice that the hearing in connection with the reviews will be held in-person at the U.S. International Trade Commission Building beginning at 9:30 a.m. on November 15, 2022.

Requests to appear at the hearing should be filed in writing with the Secretary to the Commission on or before November 7, 2022. Any requests to appear as a witness via videoconference must be included with your request to appear. Requests to appear as a witness via videoconference must include a statement explaining why the witness cannot appear in person; the Chairman, or other person designated to conduct the reviews, may at their discretion for good cause shown, grant such requests. Requests to appear as a witness via videoconference due to illness or a positive COVID-19 test result may be submitted by 3 p.m. the business day prior to the hearing.

Parties shall file and serve written testimony and presentation slides in connection with their presentation at the hearing by no later than 4 p.m. on November 14, 2022. Further information about participation in the hearing will be posted on the Commission's website at https://www.usitc.gov/calendarpad/calendar.html.

For further information concerning this proceeding see the Commission's notice cited above and the Commission's Rules of Practice and Procedure, part 201, subparts A through E (19 CFR part 201), and part 207, subparts A, D, E, and F (19 CFR part 207).

Authority: These reviews are being conducted under authority of title VII of the Tariff Act of 1930; this notice is published pursuant to section 207.62 of the Commission's rules.

By order of the Commission.
Issued: September 20, 2022.
Katherine Hiner,
Acting Secretary to the Commission.

[FR Doc. 2022-20689 Filed 9-22-22; 8:45 am]

BILLING CODE 7020-02-P